DEPARTMENT OF LABOR

Employment and Training Administration

[NAFTA-04372]

Bermo Incorporated, Sauk Rapids, MN; Notice of Negative Determination Regarding Application for Reconsideration

By application of May 31, 2001, the IUE-CWA Local 1140 requested administrative reconsideration of the Department's negative determination regarding eligibility for workers and former workers of the subject firm to apply for North American Free Trade Agreement-Transitional Adjustment Assistance. The denial notice applicable to workers of Bermo Incorporated, Sauk Rapids, MN was April 19, 2001 and published in the Federal Register on May 3, 2001 (66 FR 22262).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The NAFTA-TAA petition for the same worker group was denied because criteria (3) and (4) of the group eligibility requirements in paragraph (a)(1) of section 250 of the Trade Act, as amended, were not met. Imports from Canada or Mexico did not contribute importantly to worker separations. There was no shift in production from the subject firm to Canada or Mexico during the relevant period.

The union (including written notarized statements by subject plant workers) allege that the company moved subject plant equipment (i.e., tooling, presses and some machines) to Guadalajara, Mexico.

A shift in plant equipment (new or used) to Mexico is not relevant to this petition that was filed on behalf of workers producing electronic closures. A shift in the production of the actual products produced at the subject plant is necessary as described in criterion (4). Although the company shifted plant machinery to Mexico, the company indicated that no plant production was transferred from the Sauk Rapids facility to Guadalajara, Mexico. The electronic enclosures produced at the subject plant were produced for a specific customer and that production was not shifted to Mexico. The small amount of production performed at the Guadalajara facility consisted of products not produced at the subject plant. The company sold the Guadalajara plant shortly after production commenced.

Conclusion

After review of the application and investigation findings, I conclude that there has been no error or misinterpretation of the law of of the facts which would justify reconsideration of the Department of Labor's prior decisions. Accordingly, the application is denied.

Signed at Washington, DC, this 25th day of October, 2001.
Edward A. Tomchick,
Director, Division of Trade Adjustment Assistance.

[FR Doc. 01-28173 Filed 11-8-01; 8:45 am]

BILLING CODE 4510-30-M